Presidential Determination No. 2024-12 of September 15, 2024

Presidential Determination on Major Drug Transit or Major Illicit Drug Producing Countries for Fiscal Year 2025

Memorandum for the Secretary of State

By the authority vested in me as President by the Constitution and the laws of the United States, including section 706(1) of the Foreign Relations Authorization Act, Fiscal Year 2003 (Public Law 107-228) (FRAA), I hereby identify the following countries as major drug transit or major illicit drug producing countries (including countries that are a significant direct source of precursor chemicals used in the production of certain drugs and substances significantly affecting the United States): Afghanistan, The Bahamas, Belize, Bolivia, Burma, the People's Republic of China (PRC), Colombia, Costa Rica, the Dominican Republic, Ecuador, El Salvador, Guatemala, Haiti, Honduras, India, Jamaica, Laos, Mexico, Nicaragua, Pakistan, Panama, Peru, and Venezuela.

A country's presence on the foregoing list is not necessarily a reflection of its government's counterdrug efforts or level of cooperation with the United States. The list is not a sanction or penalty. Consistent with the statutory definition of a major drug transit or major illicit drug producing country set forth in sections 481(e)(2) and 481(e)(5) of the Foreign Assistance Act of 1961, as amended (Public Law 87-195) (FAA), the reason countries are placed on the list is the combination of geographic, commercial, and economic factors that allow drugs or precursor chemicals to be transited or produced, even if a government has engaged in robust and diligent narcotics control and law enforcement measures. The James M. Inhofe National Defense Authorization Act for Fiscal Year 2023 (Public Law 117-263) amended the definition of major drug source countries to include source countries of precursor chemicals used to produce illicit drugs significantly affecting the United States.

Pursuant to section 706(2)(A) of the FRAA, I hereby designate Bolivia, Burma, and Venezuela as having failed demonstrably during the previous 12 months to both adhere to their obligations under international counternarcotics agreements and to take the measures required by section 489(a)(1) of the FAA. Included with this determination are justifications for the designations of Bolivia, Burma, and Venezuela, as required by section 706(2)(B) of the FRAA. I have also determined, in accordance with provisions of section 706(3)(A) of the FRAA, that United States programs that support Bolivia, Burma, and Venezuela are vital to the national interests of the United States.

Provisional data from the Centers for Disease Control and Prevention indicate there were an estimated 107,543 drug overdose deaths in the United States during 2023—a decrease of 3 percent from the 111,029 deaths estimated in 2022. This is the first annual decrease in drug overdose deaths since 2018 and a sign that my Administration's historic investments are having an impact. Federally funded State Opioid Response grant programs have contributed to the prevention of over 600,000 potentially fatal overdoses and delivered nearly 10 million naloxone kits since 2020. Naloxone is available over-the-counter for the first time, thanks to actions taken by the Food and Drug Administration. Our workforce of addiction professionals continues to grow, providing the essential prevention, treatment, harm reduction, and recovery support services the American people need.

We are also taking unprecedented action to disrupt the supply of fentanyl, other deadly drugs, and precursor chemicals. U.S. Customs and Border Protection (CBP) has stopped more fentanyl at ports of entry over the last 2 years than in the previous 5 years combined, keeping tens of millions of fentanyl-laced pills and thousands of pounds of fentanyl powder away from our communities. In 2023 alone, CBP seized approximately 1.2 billion doses of fentanyl. In just the last 5 months, over 442 million potentially lethal doses of fentanyl were seized at United States borders. In 2021, I signed an Executive Order targeting foreign persons engaged in the global illicit drug trade and have since sanctioned more than 300 persons and entities under this authority, thus cutting them off from the United States' financial system. The Department of Justice has successfully arrested and prosecuted high-level drug cartel leaders, drug traffickers, and money launderers—placing dangerous traffickers behind bars.

While we expand our efforts at home, we also recognize this problem as a global one that requires a coordinated international response.

For this reason, my Administration launched a Global Coalition in July 2023 uniting more than 150 countries from every region of the world to address synthetic drug threats. Participation in this group has tripled in the past 12 months—evidence that every continent is experiencing an alarming increase in the manufacturing, trafficking, and consumption of dangerous illicit synthetic drugs. I have also engaged with leaders across the world to spur additional global action in the fight against synthetic opioids, negotiated the resumption of bilateral counternarcotics cooperation with the PRC, and established a Trilateral Fentanyl Committee with the Governments of Mexico and Canada.

While the challenges we face are more significant than ever, increased global awareness has yielded enhanced international action. In March, the United Nations (UN) Commission on Narcotic Drugs adopted a United States-sponsored resolution on preventing and responding to overdoses to drive international data collection and information sharing on this issue that remains deeply personal to the American people. The Commission also voted to place international controls on chemicals used to manufacture illicit fentanyl, methamphetamine, and MDMA, making it harder for trafficking networks to use these substances to create and distribute these dangerous synthetic drugs.

Fostering robust, long-term partnerships with crucial allies such as Mexico is imperative for effectively combating the fentanyl epidemic and dismantling the sophisticated criminal organizations that exploit it for financial gain. The U.S.-Mexico Bicentennial Framework for Security, Public Health, and Safe Communities is the foundation for our bilateral efforts to protect our people, prevent trans-border crime, and pursue criminal networks. Through trilateral mechanisms such as the North American Drug Dialogue and the Trilateral Fentanyl Committee, the United States, Mexico, and Canada have strengthened cooperation to address illicit drug production, advance public health, increase collaboration on the control of precursor chemicals, and engage with the private sector to combat the production of illicit synthetic drugs. Our security cooperation has led to significant interdiction efforts in Mexico. For example, United States-donated canines supported the seizure of more than 3 million fentanyl pills in Mexico in 2023 alone. We will continue our close partnership with Mexico to prevent the diversion of precursor chemicals and drug-related equipment; improve interdiction, investigations, and criminal justice outcomes; disrupt illicit finance; advance border integration; and build public trust in security and justice institutions.

In South America, coca cultivation and cocaine production have reached record highs, necessitating urgent action by countries in the region. Colombia, a strong partner, continues to work closely with the United States to reduce cocaine production, conduct drug smuggling interdiction operations, and dismantle the criminal organizations involved in cocaine trafficking. United States assistance has led to increased interdictions, with the Colombian National Police seizing more than 841 metric tons of pure cocaine and cocaine base in 2023—a 10 percent increase from the previous year. The new metrics for measuring progress agreed upon during the U.S.-Colombia High Level Dialogue in May 2024 demonstrate our renewed bilateral commitment to a holistic approach to address the production and trafficking of cocaine, while providing security, justice, and licit economic opportunities for Colombia's vulnerable rural populations. We are also collaborating to combat crimes that wreak havoc on Colombia's environment and provide significant funding to criminal organizations, including those involved in cocaine production and illegal mining. The United States welcomed the release of Colombia's 10-year drug strategy in 2023 and now urges the Colombian government to resource it adequately and expedite its implementation.

Peru also remains a committed partner in reducing the production and trafficking of cocaine, and our first High Level Dialogue in May 2024 marked a positive step in our bilateral counternarcotics cooperation.

While the Government of Bolivia has taken positive steps to address coca cultivation, it must do more to safeguard the country's licit coca markets from criminal exploitation, reduce illicit coca cultivation that continues to exceed legal limits under Bolivia's domestic laws for medical and traditional use, improve efforts to locate and interdict chemicals diverted through black market channels for processing cocaine, and expand cooperation with international partners to disrupt transnational criminal networks.

Opium poppy cultivation for the production of illicit opioids and methamphetamine in Afghanistan continues to require global attention and action. This past year has seen continued steps from Afghanistan to strengthen drug control and curb the production of illicit opioids and methamphetamine, including through the maintenance of an existing ban on poppy cultivation and efforts to reform drug policies. However, I will reconsider Afghanistan's status in each annual review to assess whether it is upholding its international drug control commitments.

The PRC has worked with the United States to coordinate efforts to counter the global manufacturing and trafficking of illicit synthetic drugs, including fentanyl, since the Woodside Summit between President Biden and President Xi in November 2023. Over the last year, the PRC took significant steps to reduce the flows of precursor chemicals to illicit drug producers known to be trafficking synthetic drugs, such as illicit fentanyl, into the United States. These steps included the PRC issuing a public notice to the PRC chemical industry warning against illicit trade in precursor chemicals and pill press equipment; taking public law enforcement actions against illicit precursor chemical suppliers; removing web-based advertisements; and scheduling 46 synthetic drugs effective July 1, 2024, some of which had been controlled internationally by the UN. The United States and the PRC also launched the U.S.-PRC Counternarcotics Working Group, a valuable mechanism for sharing law enforcement information, tackling the illicit financing of illicit drugs, and ensuring ongoing coordination on shared challenges. That said, sustained enforcement and regulatory action will be necessary to significantly reduce the PRC's role as a source of precursor chemicals used in the production, sale, and trafficking of illicit synthetic drugs significantly impacting the United States.

You are authorized and directed to submit this designation, with the Bolivia, Burma, and Venezuela memoranda of justification, under section 706 of the FRAA, to the Congress, and to publish this determination in the Federal Register.

THE WHITE HOUSE,

Washington, September 15, 2024

[FR Doc. 2024-21951

Filed 9-23-24; 8:45 am]

Billing code 4710-10-P